DEPARTMENT OF COMMERCE

National Oceanic and Atmospheric Administration

[RTID 0648-XF541]

New England Fishery Management Council; Public Meeting

AGENCY: National Marine Fisheries Service (NMFS), National Oceanic and Atmospheric Administration (NOAA), Commerce.

ACTION: Notice of public meeting.

SUMMARY: The New England Fishery Management Council (Council) is holding a public meeting of a Scientific and Statistical Committee (SSC) Sub-Panel via webinar to consider actions affecting New England fisheries in the exclusive economic zone (EEZ). Recommendations from this group will be brought to the full Council for formal consideration and action, if appropriate.

DATES: This meeting will be held on Friday, March 13, 2026, beginning at 9 a.m. EST. Webinar Registration information: https://nefmc-org.zoom.us/meeting/register/2oXwVBLlR0qlhrAmJjkvfg.

ADDRESSES:

Council address: New England Fishery Management Council, 50 Water Street, Mill 2, Newburyport, MA 01950.

FOR FURTHER INFORMATION CONTACT: Cate O'Keefe, Executive Director, New England Fishery Management Council; telephone: (978) 465-0492.

SUPPLEMENTARY INFORMATION:

Agenda

A Scientific and Statistical Committee Subpanel will review recent research on the development of standardized monkfish catch per unit effort (CPUE) indices. The research was conducted by the Cape Cod Commercial Fishermen's Alliance in collaboration with the University of Massachusetts Dartmouth School for Marine Science & Technology and the Northeast Fisheries Science Center Cooperative Research Branch. In this review, the subpanel will: (1) review the methods presented for developing monkfish CPUE indices, (2) consider how this research can inform future monkfish stock assessments and management measures, and (3) provide any recommendations for improving the research. This technical review follows the Council's Research Review Policy, consistent with National Standard 2 Guidelines. Other business will be discussed as necessary.

Although non-emergency issues not contained on the agenda may come before this Council for discussion, those issues may not be the subject of formal action during this meeting. Council action will be restricted to those issues specifically listed in this notice and any issues arising after publication of this notice that require emergency action under section 305(c) of the Magnuson-Stevens Act, provided the public has been notified of the Council's intent to take final action to address the emergency. The public also should be aware that the meeting will be recorded. Consistent with 16 U.S.C. 1852, a copy of the recording is available upon request.

Special Accommodations

This meeting is physically accessible to people with disabilities. Requests for sign language interpretation or other auxiliary aids should be directed to Cate O'Keefe, Executive Director, at 978-465-0492, at least 5 days prior to the meeting date.

Authority: 6 U.S.C. 1801 et seq.

Dated: February 18, 2026.
Becky J. Curtis,
Acting Deputy Director, Office of Sustainable Fisheries, National Marine Fisheries Service.

[FR Doc. 2026-03404 Filed 2-19-26; 8:45 am]

BILLING CODE 3510-22-P